DEPARTMENT OF THE INTERIOR

Bureau of Land Management

[LLMTM01000 L14300000.ET0000 14XL1109AF; MO#4500069247; MTM 89170]

Notice of Proposed Withdrawal Extension and Opportunity for Public Meeting; Montana

AGENCY: Bureau of Land Management, Interior.

ACTION: Notice.

SUMMARY: The Assistant Secretary of the Interior for Land and Minerals Management proposes to extend the duration of Public Land Order (PLO) No. 7464, as extended by PLO Nos. 7643 and 7753, for an additional 5-year term. PLO No. 7464 withdrew 3,530.62 acres of public land in Phillips County, Montana, from settlement, sale, location, or entry under the general land laws, including the mining laws, to protect the reclamation of the Zortman-Landusky mining area. The withdrawal created by PLO No. 7464, as extended, will expire on October 4, 2015, unless further extended. This notice also gives an opportunity to comment on the proposed action and to request a public meeting.

DATES: Comments and requests for a public meeting must be received by May 7, 2015.

ADDRESSES: Comments and meeting requests should be sent to the BLM Malta Field Manager, 501 South 2nd Street East, Malta, Montana 59538.

FOR FURTHER INFORMATION CONTACT: Micah Lee, BLM Havre Field Office, 406-262-2851, or Cyndi Eide, BLM Montana/Dakotas State Office, 406-896-5094. Persons who use a telecommunications device for the deaf (TDD) may call the Federal Information Relay Service (FIRS) at 1-800-877-8339 to contact the above individual. The FIRS is available 24 hours a day, 7 days a week, to leave a message or question with the above individual. You will receive a reply during normal business hours.

SUPPLEMENTARY INFORMATION: The Bureau of Land Management (BLM) has filed an application requesting that the Assistant Secretary for Land and Minerals Management extend the withdrawal established by Public Land Order No. 7464 (65 FR 59463 (2000)), as extended by PLO Nos. 7643 and 7753, which withdrew 3,530.62 acres of public land in Phillips County, Montana, from settlement, sale, location, or entry under the general land laws, including the United States mining laws, for an additional 5-year term, subject to valid existing rights. PLO 7464 is incorporated herein by reference.

The purpose of the proposed extension is to continue to protect reclamation at the Zortman and Landusky mining area.

The use of a right-of-way, interagency agreement, or cooperative agreement would not provide adequate protection.

There are no suitable alternative sites available where the withdrawal would facilitate mine reclamation since the location of the mines and necessary reclamation materials are fixed.

No water rights will be needed to fulfill the purpose of the requested withdrawal.

All persons who wish to submit comments, suggestions, or objections in connection with the proposed withdrawal extension may present their views in writing to the BLM Malta Field Manager by May 7, 2015, at the address above.

Comments, including names and street addresses of respondents, will be available for public review at the Malta Field Office, 501 South 2nd Street East, Malta, Montana 59538, during regular business hours.

Before including your address, phone number, email address, or other personal identifying information in your comment, be advised that your entire comment—including your personal identifying information—may be made publicly available at any time. While you can ask in your comment to withhold from public review your personal identifying information, we cannot guarantee that we will be able to do so.

Notice is hereby given that an opportunity for a public meeting is afforded in connection with the proposed withdrawal extension. All interested persons who desire a public meeting for the purpose of being heard on the proposed withdrawal extension must submit a written request to the BLM Malta Field Manager at the address above by May 7, 2015. Upon determination by the authorized officer that a public meeting will be held, a notice of the time and place will be published in the Federal Register and in at least one local newspaper not less than 30 days before the scheduled date of the meeting.

This application will be processed in accordance with the regulations set forth in 43 CFR 2310.4.

Renee Johnson,
Acting Chief, Branch of Land Resources.

[FR Doc. 2015-02494 Filed 2-5-15; 8:45 am]

BILLING CODE 4310-DN-P